FEDERAL COMMUNICATIONS COMMISSION

FCC To Hold Open Commission Meeting Thursday, July 16, 2015

July 9, 2015.

The Federal Communications Commission will hold an Open Meeting on the subjects listed below on Thursday, July 16, 2015, which is scheduled to commence at 10:30 a.m. in Room TW-C305, at 445 12th Street SW., Washington, DC.

Item No. | Bureau | Subject
1 | WIRELESS TELECOMMUNICATIONS | TITLE: Broadcast Incentive Auction Comment Public Notice Auction 1000, 1001 and 1002; Expanding the Economic and Innovation Opportunities of Spectrum Through Incentive Auctions; Policies Regarding Mobile Spectrum Holdings (AU Docket No. 14-252) (GN Docket No. 12-268) (WT Docket No. 12-269). SUMMARY: The Commission will take the next step to commencing the incentive auction in the first quarter of 2016 by considering the Procedures Public Notice, which adopts a balanced set of auction procedures that will ensure an effective, efficient, and timely auction. The Public Notice establishes and provides information on final procedures for setting the initial spectrum clearing target, qualifying to bid, and bidding in the reverse and forward auctions.
2 | WIRELESS TELECOMMUNICATIONS | TITLE: Policies Regarding Mobile Spectrum Holdings; Expanding the Economic and Innovation Opportunities of Spectrum Through Incentive Auctions (WT Docket No. 12-269) (GN Docket No. 12-268). SUMMARY: The Commission will consider an Order on Reconsideration addressing petitions for reconsideration of certain aspects of the Mobile Spectrum Holdings Report and Order.
3 | WIRELESS TELECOMMUNICATIONS | TITLE: Updating Part 1 Competitive Bidding Rules; Expanding the Economic and Innovation Opportunities of Spectrum Through Incentive Auctions; Petition of DIRECTV Group, Inc. and EchoStar LLC for Expedited Rulemaking to Amend Section 1.2105(a)(2)(xi) and 1.2106(a) of the Commission's Rules and/or for Interim Conditional Waiver; Implementation of the Commercial Spectrum Enhancement Act and Modernization of the Commission's Competitive Bidding Rules and Procedures (WT Docket No. 14-170) (GN Docket No. 12-268) (RM-11395) (WT Docket No. 05-211). SUMMARY: The Commission will consider a Report and Order, Order on Reconsideration, Third Order on Reconsideration and a Third Report and Order that provides meaningful opportunities for small businesses, rural telephone companies, and businesses owned by members of minority groups and women to participate in the provision of spectrum-based services, and also strengthens the Commission's rules to protect against unjust enrichment to ineligible entities.
4 | ENFORCEMENT | TITLE: Enforcement Bureau Item. SUMMARY: The Commission will consider an enforcement item.

* * * * *

Consent Agenda

The Commission will consider the following subjects listed below as a consent agenda and these items will not be presented individually:

Item No. | Bureau | Subject
1 | MEDIA | TITLE: KGAN Licensee, LLC, Application for Renewal of License of Station KGAN-TV, Cedar Rapids, Iowa. SUMMARY: The Commission will consider a Memorandum Opinion and Order concerning an Application for Review filed by Iowans For Better Local Television seeking review of a Media Bureau Order denying a petition to deny.
2 | MEDIA | TITLE: ABC, Inc. and CBS Broadcasting, Inc., Applications for WPVI-TV and KYW-DT, Philadelphia, Pennsylvania. SUMMARY: The Commission will consider a Memorandum Opinion and Order concerning an Application for Review filed by Global Radio, LLC seeking review of licenses to cover granted by the Media Bureau.
3 | MEDIA | TITLE: Beach TV Properties, Inc., Licensee of Stations KNOV-CD, New Orleans, Louisiana; WCAY-CD, Key West, Florida; WDES-CA Destin, Florida; WPFN-CA Panama City, Florida; WPCT(TV), Panama City, Florida; and WAWD(TV), Fort Walton Beach, Florida; Beach TV of South Carolina, Inc., Licensee of Stations WGSC-CD, Murrells Inlet, South Carolina and WGSI-CD, Murrells Inlet, South Carolina. SUMMARY: The Commission will consider an Order and consent decree concerning the renewal of television stations filed by Beach TV Properties, Inc. and Beach TV of South Carolina, Inc.
4 | MEDIA | TITLE: NBC Telemundo License Co., for Renewal of License of Station WTVJ(TV), Miami, Florida and CBS Television Stations, Inc., for Renewal of License of Station WFOR-TV, Miami, Florida. SUMMARY: The Commission will consider a Memorandum Opinion and Order concerning an Application for Review filed by the Office of Communication of the United Church of Christ, Inc. seeking review of two renewals granted by the Media Bureau.
5 | MEDIA | TITLE: Southwest FM Broadcasting Co., Inc., Application for Construction Permit for Minor Change of Station KAHM(FM), Spring Valley, Arizona. SUMMARY: The Commission will consider a Memorandum Opinion and Order concerning an Application for Review filed by Kemp Communications, Inc. seeking review of a minor change application granted by the Media Bureau.
6 | MEDIA | TITLE: Greene/Sumter Enterprise Community, Application for Construction Permit for A New Noncommercial Educational FM Radio Station, Livingston, Alabama, Cedar Ridge Fellowship of SDA; Application for Construction Permit for A New Noncommercial Educational FM Radio Station, Shoals, Florida; Maranatha Broadcasting Ministry, Inc., Application for Construction Permit for A New Noncommercial Educational FM Radio Station, Hot Springs, Arkansas; San Bernardino Community College District, Application for Construction Permit for A New Noncommercial Educational FM Radio Station, Barstow, California; and, Cross of Our Lord Jesus Christ Ministries, Application for Construction Permit for A New Noncommercial Educational FM Radio Station, White Deer, Texas. SUMMARY: The Commission will consider a Memorandum Opinion and Order concerning five Applications for Review filed by Greene/Sumter Enterprise Community, Cedar Ridge Fellowship of Seventh Day Adventists, Maranatha Broadcasting Ministry, Inc., San Bernardino Community College District), and Cross of Our Lord Jesus Christ Ministries seeking review of decisions by the Media Bureau and a waiver request filed by Greene/Sumter Enterprise Community.
7 | MEDIA | TITLE: Larlen Communications, Inc., Application for New Noncommercial Educational FM Station, Weare, Michigan. SUMMARY: The Commission will consider a Memorandum Opinion and Order concerning an Application for Review filed by Larlen Communications, Inc. seeking review of a decision by the Media Bureau.
8 | MEDIA | TITLE: WGBH Educational Foundation, Applications for Renewal of Licenses of WGBH(FM), Boston, Massachusetts, and WCRB-FM, Lowell, Massachusetts. SUMMARY: The Commission will consider a Memorandum Opinion and Order concerning an Application for Review filed by the Committee for Community Access seeking review of a renewal granted by the Media Bureau.
9 | MEDIA | TITLE: Malibu FM Emergency and Community Broadcasters, Inc., For a New Low Power FM Station at Malibu, California. SUMMARY: The Commission will consider a Memorandum Opinion and Order concerning an Application for Review filed by Malibu FM Emergency and Community Broadcasters, Inc. seeking review of a decision by the Media Bureau.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from Will Wiquist, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-17499 Filed 7-16-15; 8:45 am]

BILLING CODE 6712-01-P